DEPARTMENT OF AGRICULTURE

Animal and Plant Health Inspection Service

7 CFR Part 331

[Docket No. 03-070-2]

Public Meetings; Listing of Biological Agents and Toxins

AGENCY: Animal and Plant Health Inspection Service, USDA.

ACTION: Notice of cancellation of public meetings.

SUMMARY: We are advising individuals and entities possessing, using, or transferring biological agents and toxins listed in 7 CFR 331.3, as well as other interested parties, that the series of public meetings scheduled for August 2003 are canceled.

FOR FURTHER INFORMATION CONTACT: Dr. Michael J. Firko, Assistant Director, Plant Health Programs, PPQ, APHIS, 4700 River Road Unit 133, Riverdale, MD 20737-1236; (301) 734-8758.

SUPPLEMENTARY INFORMATION: In a document published in the Federal Register on July 24, 2003 (68 FR 43660-43661, Docket No. 03-070-1), we gave notice that we would be holding a series of public meetings in August 2003 to provide a forum for discussion of the criteria used to determine whether an agent has the potential to pose a severe threat to plant health or products. We are canceling the meetings that had been scheduled to be held on August 12, 2003 in Charlotte, NC; on August 19, 2003, in Riverdale, MD; and on August 21, 2003, in Sacramento, CA. We will explore alternative methods to consult with appropriate Federal departments and agencies and with scientific experts representing appropriate professional groups. We regret any inconvenience caused by this cancellation.

Done in Washington, DC, this 30th day of July 2003.
Peter Fernandez,
Acting Administrator, Animal and Plant Health Inspection Service.

[FR Doc. 03-19694 Filed 8-1-03; 8:45 am]

BILLING CODE 3410-34-P